DEPARTMENT OF TRANSPORTATION

[Docket No. OST-2004-20004]

Office of Small & Disadvantaged Business Utilization and Minority Resource Center; Notice of Request for New Data Collection

AGENCY: Office of the Secretary, DOT.

ACTION: Notice.

SUMMARY: In compliance with the Paperwork Reduction Act of 1995 (44 U.S.C. 3501 et seq.), the Office of Small and Disadvantaged Business Utilization and Minority Resource Center invites public comment on public information collections, which will be submitted to OMB for renewal.

DATES: Comments must be received on or before February 27, 2005.

ADDRESSES: You may submit comments identified by DOT DMS Docket Number OST-2004-20004 by any of the following methods:

• Web site: http://dms.dot.gov. Follow the instructions for submitting comments on the DOT electronic docket site.

• Fax 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Arthur Jackson, Chief of Field Operations, U.S. Department of Transportation, Office of Small and Disadvantaged Business Utilization and Minority Resource Center, 400 Seventh Street, SW., Washington, DC 20590, (202) 366-5344.

SUPPLEMENTARY INFORMATION: Title: Counseling Information Form; Regional Center Intake Form; Monthly Report of Operations.

OMB Control Number: N/A.

Type of Request: New request for data collection.

Abstract: In accordance with 49 U.S.C. 332(b)(2), (5), the Minority Resource Center is authorized to facilitate, encourage, promote, and assist minority entrepreneurs and businesses in getting contracts, subcontracts, and projects related to those business opportunities. Moreover, the provision authorizes the Minority Resource Center to carry out market research, planning, economic and business analyses and feasibility studies to identify those business opportunities. The cumulative data collected will be analyzed by the Minority Resource Center to determine the effectiveness of counseling and services provided as well as a description of the Disadvantaged Business Enterprise (DBE).

The Minority Resource Regional Centers will collect information on Disadvantaged Business Enterprises (DBEs), such as type of business & services they seek from the Regional Centers. Services provided include business plans, marketing and sales, financial assistance, etc. Such data will be analyzed by the Office of Small and Disadvantaged Business Utilization and Minority Resource Center to determine agency effectiveness in assisting DBEs to obtain government contracts and subcontracts.

Respondents: Minority Resource Center Regional Center Disadvantaged Business Enterprises (DBEs).

Estimated Number of Respondents: 10,350.

Estimated Total Burden on Respondents: 4,311.

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology.

All responses to this notice will be summarized and included in the request for OMB approval. All comments will also become a matter of public record.

Issued in Washington, DC on December 29, 2005.
Sean M. Moss,
Director, Office of Small and Disadvantaged Business Utilization.

[FR Doc. 05-375 Filed 1-6-05; 8:45 am]

BILLING CODE 4910-62-P